FEDERAL COMMUNICATIONS COMMISSION

[DA 02-1608]

Eleventh Meeting of the Advisory Committee for the 2003 World Radiocommunication Conference (WRC-03 Advisory Committee)

AGENCY: Federal Communications Commission.

ACTION: Notice.

SUMMARY: In accordance with the Federal Advisory Committee Act, this notice advises interested persons that the next meeting of the WRC-03 Advisory Committee will be held on August 22, 2002, at the Federal Communications Commission. The purpose of the meeting is to continue preparations for the 2003 World Radiocommunication Conference. The Advisory Committee will consider any preliminary views and/or proposals introduced by the Advisory Committee's Informal Working Groups.

DATES: August 22, 2002; 10 a.m.-12 noon.

ADDRESSES: Federal Communications Commission, 445 12th Street, SW., Commission Meeting Room (TW-C305), Washington DC 20554.

FOR FURTHER INFORMATION CONTACT: Alexander Roytblat, FCC International Bureau, Strategic Analysis and Negotiations Division, at (202) 418-7501.

SUPPLEMENTARY INFORMATION: The Federal Communications Commission (FCC) established the WRC-03 Advisory Committee to provide advice, technical support and recommendations relating to the preparation of United States proposals and positions for the 2003 World Radiocommunication Conference (WRC-03). In accordance with the Federal Advisory Committee Act, Public Law 92-463, as amended, this notice advises interested persons of the Eleventh meeting of the WRC-03 Advisory Committee. The WRC-03 Advisory Committee has an open membership. All interested parties are invited to participate in the Advisory Committee and to attend its meetings. The proposed agenda for the Eleventh meeting is as follows:

Agenda

Eleventh Meeting of the WRC-03 Advisory Committee, Federal Communications Commission, 445 12th Street, SW., Commission Meeting Room (TW-C305), Washington, DC 20554

August 22, 2002; 10 a.m.-12 Noon

1. Opening Remarks

2. Approval of Agenda

3. Approval of the Minutes of the Tenth Meeting

4. Reports from regional WRC-03 Preparatory Meetings

5. NTIA Draft Preliminary Views and Proposals

6. IWG Reports and Documents relating to:

a. Consensus Views and Issue Papers

b. Draft Proposals

7. Future Meetings

8. Other Business

Federal Communications Commission.
Don Abelson,
Chief, International Bureau.

[FR Doc. 02-18180 Filed 7-18-02; 8:45 am]

BILLING CODE 6712-01-P